DEPARTMENT OF DEFENSE

Office of the Secretary

[DOS-2006-OS-0068]

Privacy Act of 1974; System of Records

AGENCY: Office of the Secretary, DoD.

ACTION: Notice to alter a system of records.

SUMMARY: The Office of the Secretary of Defense is altering a system of records to its existing inventory of record systems subject to the Privacy Act of 1974 (5 U.S.C. 552a), as amended.

DATES: The changes will be effective on May 22, 2006 unless comments are received that would result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted April 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 17, 2006.
L.M. Bynum,
OSD Federal Register Liaison Officer, Department of Defense.

DODDS 23

System name:

Educator Certification/Recertification Files (May 14, 1997, 62 FR 26483).

Changes:

* * * * *

System identifier:

Delete entry and replace with: “DODEA 23.”

* * * * *

System location:

Delete entry and replace with: “Records are maintained at the schools and the Human Resources Regional Service Center, Department of Defense Education Activity, 4040 North Fairfax Drive, Arlington, VA 22203-1634.”

Categories of individuals covered by the system:

Delete entry and replace with: “Department of Defense Education Activity (DoDEA) teachers, as the term ‘teacher’ is defined in 20 U.S.C. 901, and to all DoDEA excepted service and educators classified in the TP-1710 or related series.”

Categories of records in the system:

Delete “DoDDS” and replace with: “DoDEA.”

Authority for maintenance of the system:

Delete entry and replace with: “20 U.S.C. 901-907; 20 U.S.C. 931; 10 U.S.C. 2164; DoD Directive 1342.20, Department of Defense Education Activity; and E.O. 9397 (SSN).”

Purpose(s):

Delete “Department of Defense Dependents Schools” and replace with: “Department of Defense Education Activity.”

Routine uses of records maintained in the system, including categories of users and the purposes of such uses:

Delete the third paragraph and replace with: “Records may be disclosed to educational accrediting institutions and organizations during review of a school or schools and North Central Association of Colleges and Schools (NCA), one of six regional accrediting associations in the United States, which accredits DoDEA schools.”

Storage:

Delete entry and replace with: “Paper records are stored in file folders and electronic information in data bases.”

Retrievability:

Delete entry and replace with: “The files are indexed by the educator's full name and Social Security Number.”

Safeguards:

Delete entry and replace with: “Paper records and automated records are maintained in files which are accessible only to authorized personnel. The offices are secured during non-business hours. Access to automated data files is controlled by a user ID and password system.”

Retention and disposal:

Delete entry and replace with: “Records are maintained for the current as well as the upcoming certification cycles. Records for an expired certification cycle are retained for 3 years; then they are destroyed. If a teacher leaves the system, except in the case of an educator who is participating in the DoDEA Administrative Re-employment Rights Program, the file is maintained for three years following the current expiration date of the certificate.”

System manager(s) and address:

Delete “Chief, Personnel Division, Department of Defense Dependents Schools” and replace with: “Human Resources Director, Human Resources Regional Service Center, Department of Defense Education Activity.”

Notification procedure:

Delete “Department of Defense Dependent Schools” and replace with: “Department of Defense Education Activity.”

Record access procedures:

Delete “Department of Defense Dependent Schools” and replace with: “Department of Defense Education Activity.”

* * * * *

DODEA 23

System name:

Educator Certification/Recertification Files.

System location:

Records are maintained at the schools and the Human Resources Regional Service Center, Department of Defense Education Activity, 4040 North Fairfax Drive, Arlington, VA 22203-1634.

Categories of individuals covered by the system:

Department of Defense Education Activity (DoDEA) teachers, as the term ‘teacher’ is defined in 20 U.S.C. 901, and to all DoDEA excepted service and educators classified in the TP-1710 or related series.

Categories of records in the system:

Records consist of transcripts and/or other documentary evidence needed to substantiate the certification status of a DoDEA educator. Records include correspondence relating to amendment, renewal, correction, maintenance, and revocation of the individual educator's certification status.

Authority for maintenance of the system:

20 U.S.C. 901-907; 20 U.S.C. 931; 10 U.S.C. 2164; DoD Directive 1342.20, Department of Defense Education Activity; and E.O. 9397 (SSN).

Purpose(s):

Department of Defense Education Activity administrators use this information to determine the eligibility of applicable employees to be certified/recertified.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The information may be supplied to state or professional organizations, such as the National Association of State Directors of Teacher Education and Certification (NASDTEC), with whom the DoDEA has reciprocal agreements affecting certificates issued or revoked by the respective systems.

Records may be disclosed to educational accrediting institutions and organizations during review of a school or schools and North Central Association of Colleges and Schools (NCA), one of six regional accrediting associations in the United States, which accredits DoDEA schools.

Policies and practices for storing, retrieving, accessing, retaining, and disposing of records in the system:

Storage:

Paper records are stored in file folders and electronic information in data bases.

Retrievability:

The files are indexed by the educator's full name and Social Security Number.

Safeguards:

Paper records and automated records are maintained in files which are accessible only to authorized personnel. The offices are secured during non-business hours. Access to automated data files is controlled by a user ID and password system.

Retention and disposal:

Records are maintained for the current as well as the upcoming certification cycles. Records for an expired certification cycle are retained for 3 years; then they are destroyed. If a teacher leaves the system, except in the case of an educator who is participating in the DoDEA Administrative Re-employment Rights Program, the file is maintained for three years following the current expiration date of the certificate.

System manager(s) and address:

Human Resources Director, Human Resources Regional Service Center, Department of Defense Education Activity, Department of Defense Education Activity, 4040 North Fairfax Drive, Arlington, VA 22203-1634.

Notification procedure:

Individuals seeking to determine whether information about themselves is contained in this system should address written inquiries to the Privacy Act Officer, Department of Defense Education Activity, 4040 North Fairfax Drive, Arlington, VA 22203-1635.

The request should include the educator's full name, Social Security Number, and be signed. Former employees must also include dates and places of employment.

Record access procedures:

Individuals seeking to access information about themselves contained in this system should address written requests to the Privacy Act Officer, Department of Defense Education Activity, 4040 North Fairfax Drive, Arlington, VA 22203-1635.

The request should include the educator's full name, Social Security Number, and be signed. Former employees must also include dates and places of employment.

Contesting record procedures:

The OSD rules for accessing records, for contesting contents and appealing initial agency determinations are published in OSD Administrative Instruction 81; 32 CFR part 311; or may be obtained from the system manager.

Record source categories:

Information is obtained from the individuals concerned.

Exemptions claimed for the system:

None.

[FR Doc. 06-3801 Filed 4-20-06; 8:45 am]

BILLING CODE 5001-06-M